FEDERAL RESERVE SYSTEM

Agency Information Collection Activities: Announcement of Board Approval under Delegated Authority and Submission to OMB

AGENCY: Board of Governors of the Federal Reserve System.

SUMMARY: The Board of Governors of the Federal Reserve System (Board) is adopting a proposal to extend for three years, with revision, the Joint Statement for Assessing the Diversity Policies and Practices of Entities Regulated by the Agencies. (FR 2100; OMB No. 7100-0368).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above.

Final Approval Under OMB Delegated Authority of the Extension for Three Years, With Revision, of the Following Information Collection

Collection title: Joint Statement for Assessing the Diversity Policies and Practices of Entities Regulated by the Agencies.

Collection identifier: FR 2100.

OMB control number: 7100-0368.

Effective Date: August 31, 2023.

General description of collection: The Joint Statement for Assessing the Diversity Policies and Practices of Entities Regulated by the Agencies was published jointly in 2015 by the Board, Office of the Comptroller of the Currency, Federal Deposit Insurance Corporation, National Credit Union Administration, Consumer Financial Protection Bureau, and Securities and Exchange Commission. Standards in the statement encourage a regulated entity, in a manner reflective of its size and other characteristics, to voluntarily conduct a self-assessment of its diversity policies and practices and to report information pertaining to its self-assessment to the Office of Minority and Women Inclusion of its primary federal financial regulator, as well as to publish information pertaining to its efforts with respect to the standards. The Board has developed a voluntary reporting template entitled “Diversity Self-Assessment Template” for use by institutions regulated by the Board to facilitate the provision of self-assessment information.

Frequency: Annually.

Respondents: All financial institutions for which the Federal Reserve is the primary federal financial regulator.

Total estimated number of respondents: 156.

Total estimated change in burden: The estimated annual burden would remain unchanged.

Total estimated annual burden hours: 1,248.¹

¹ More detailed information regarding this collection, including more detailed burden estimates, can be found in the OMB Supporting Statement posted at https://www.federalreserve.gov/apps/reportingforms/home/review. On the page displayed at the link, you can find the OMB Supporting Statement by referencing the collection identifier, FR 2100.

Current actions: On March 30, 2023, the Board published a notice in the Federal Register (88 FR 19146) requesting public comment for 60 days on the extension, with revision, of the FR 2100. The Board proposed to revise the diversity self-assessment template by adding a Research, Statistics, Supervision and Regulation, and Discount and Credit Database (RSSD) number field to identify regulated entities and improve the efficiency of data collections. The Board also proposed to reformat the Workforce Profile and Employment Practices section of the template to make clarifications. Proposed changes include the separation of managers in the workforce count from Executive/Senior Level Officials. The comment period for this notice expired on May 30, 2023. The Board did not receive any comments. The revisions will be implemented as proposed.

Board of Governors of the Federal Reserve System, July 13, 2023.
Erin Cayce,
Assistant Secretary of the Board.

[FR Doc. 2023-15240 Filed 7-18-23; 8:45 am]

BILLING CODE 6210-01-P